DEPARTMENT OF COMMERCE

National Oceanic and Atmospheric Administration

[I.D. 032800C]

Fisheries of the Exclusive Economic Zone Off Alaska; Application for an Exempted Fishing Permit

AGENCY: National Marine Fisheries Service (NMFS), National Oceanic and Atmospheric Administration (NOAA), Commerce.

ACTION: Notice of receipt of an application for an exempted fishing permit.

SUMMARY: This notice announces receipt of a joint application for an exempted fishing permit (EFP) from Groundfish Forum Inc. and At-Sea Processors Association. If awarded, this permit would be used for limited testing of a device for the Pacific cod fisheries in the Bering Sea and Gulf of Alaska that would lower halibut bycatch rates without significantly lowering catch rates of Pacific cod. It is intended to promote the objectives of the Fishery Management Plan for Groundfish of the Gulf of Alaska and the Fishery Management Plan for the Groundfish Fishery of the Bering Sea and Aleutian Islands Area (FMPs).

ADDRESSES: Copies of the EFP application are available by writing to Sue Salveson, Assistant Regional Administrator for Sustainable Fisheries, Alaska Region, NMFS, P.O. Box 21668, Juneau, AK 99802, Attn: Lori Gravel.

FOR FURTHER INFORMATION CONTACT: Sue Salveson, 907-586-7228.

SUPPLEMENTARY INFORMATION: The FMPs and the implementing regulations at 50 CFR parts 679.6 and 600.745(b) authorize issuance of EFPs to allow fishing that would otherwise be prohibited. Procedures for issuing EFPs are contained in the implementing regulations.

NMFS received a joint application for an EFP from Mr. John Gauvin, Groundfish Forum Inc. and Mr. Trevor McCabe, At-Sea Processors Association. The purpose of the EFP would be to conduct limited testing of a device for the Pacific cod fisheries in the Bering Sea and Gulf of Alaska that would lower Pacific halibut bycatch rates without significantly lowering catch rates of cod. The project would be conducted in coordination with gear development scientists at the Alaska Fisheries Science Center, NMFS, who would help the applicants select the most promising Pacific halibut excluder design for testing using criteria set out in the EFP application. Results from the EFP could be used by the groundfish trawl industry, the North Pacific Fishery Management Council (Council), and NMFS to develop fishing methods or effective regulatory measures to reduce halibut bycatch in the Pacific cod trawl fisheries.

In accordance with regulations, NMFS has determined that the proposal warrants further consideration and has initiated consultation with the Council by forwarding the application to the Council. The Council will consider the EFP application during its April 12 - 17, 2000, meeting, which will be held at the Hilton Hotel, Anchorage, AK. The applicants have been invited to appear in support of the application if the applicant desires.

A copy of the application is available for review from NMFS (see ADDRESSES).

Authority: 16 U.S.C. 1801 et seq.

Dated: April 5, 2000.
George H. Darcy,
Acting Director, Office of Sustainable Fisheries, National Marine Fisheries Service.

[FR Doc. 00-8943 Filed 4-10-00; 8:45 am]

BILLING CODE 3510-22-F